DEPARTMENT OF COMMERCE

Foreign-Trade Zones Board

(Docket 5-2007)

Foreign-Trade Zone 138 -- Columbus, Ohio, Area, Application for Reorganization/Expansion

An application has been submitted to the Foreign-Trade Zones (FTZ) Board (the Board), by the Columbus Regional Airport Authority, grantee of Foreign-Trade Zone 138, requesting authority to expand and reorganize its zone in the Columbus area, within and adjacent to the Columbus Customs and Border Protection port of entry. The application was submitted pursuant to the provisions of the Foreign-Trade Zones Act, as amended (19 U.S.C. 81a-81u), and the regulations of the Board (15 CFR part 400). It was formally filed on February 6, 2007.

FTZ 138 was approved on March 13, 1987 (Board Order 351, 52 FR 9319, 3/24/87) and expanded on February 23, 1994 (Board Order 685, 59 FR 10783, 3/8/94), on November 9, 1999 (Board Order 1063, 64 FR 63786, 11/22/99), on May 29, 2001 (Board Order 1166, 66 FR 32933, 6/19/01), and on December 17, 2003 (Board Order 1311, 69 FR 49, 1/2/04).

The general-purpose zone currently consists of the following sites (5,012 acres) in the Columbus area: Site 1 consists of 4,007 total acres in Franklin and Pickaway Counties, which includes the Rickenbacker International Airport and Air Industrial Park (Site 1A-2,819 acres), Alum Creek East Industrial Park (Site 1B-236 acres), Alum Creek West Industrial Park (Site 1C-509 acres), Rickenbacker West Industrial Park (Site 1D-100 acres) (expires 12/31/08), Groveport Commerce Center (Site 1E-100 acres) (expires 12/31/08), Opus Business Center (Site 1F-145 acres) (expires 12/31/08), and Creekside Industrial Center (Site 1G-98 acres) (expires 12/31/08); Site 2 (136 acres) -- industrial park project, McClain Road, Lima; Site 3 (42 acres) -- Gateway Interchange Industrial Park, Chillicothe; Site 4 (15 acres) -- Rock Mill Industrial Park, Lancaster; Site 5 (133 acres) -- D.O. Hall Business Center, Cambridge; Site 6 (74 acres) -- Eagleton Industrial Park, London; Site 7 (20 acres) -- Canal Pointe Industry and Commerce Park, Village of Canal Winchester (expires 12/31/08); Site 8 (99 acres) -- Gateway Business Park--West Campus, City of Grove City (expires 12/31/08); Site 9 (100 acres) -- Etna Corporate Park, Etna Township (expires 12/31/08); Site 10 (49 acres) -- Central Ohio Aerospace and Technology Center Campus, City of Heath (expires 12/31/08); Site 11 (49 acres) -- Logan-Hocking Industrial Park, City of Logan (expires 12/31/08); Temporary Site 1 (31 acres) -- Marion Industrial Park, 1110 Cheney Avenue, Marion (expires 9/1/08); Temporary Site 2 (41 acres) -- Capital Park South, 3125-3325 Lewis Centre Way, Grove City (expires 9/1/08); Temporary Site 3 (97 acres) -- three parcels located at 700 Manor Park, 330 Oak Street and 1809 Wilson Road, Columbus (expires 9/1/08); Temporary Site 4a (29 acres) -- within Rock Mill Industrial Park, 1115 West Fifth Avenue, Lancaster (expires 9/1/08); Temporary Site 5 (14 acres) -- Southpointe Industrial Park, 3901 Gantz Road, Grove City (expires 9/1/08); Temporary Site 6 (8 acres) -- Groveport Commerce Center, 6295 Commerce Drive, Groveport (expires 9/1/08); Temporary Site 7 (45 acres) -- located at 4545 Fisher Road, Columbus (expires 9/1/08); and, Temporary Site 8 (23 acres) -- within Canal Pointe Industry and Commerce Park, 8170 Dove Parkway, Canal Winchester (expires 9/1/08).

The applicant is now requesting authority for a reorganization and expansion of the zone, which includes both additions and deletions with an overall increase of 183.5 acres in total zone space as described below:

-- Modify existing Site 1A by deleting 7 acres within the industrial park (Building 21, 2195 Wright Brothers Avenue, Columbus) and restore 109 acres to zone status (new total acreage - 2921 acres);

-- Expand Site 1E to include an additional 13 acres and to include Temporary Site 6 (8 acres) on a permanent basis (new total acreage - 121 acres);

-- Reorganize Site 1G-Areas 3 and 4 due to shifts in utility easements (net reduction of 0.5 acres) and remove Site 1G-Area 6 (1 acre located at 2605 Rohr Road, Lockburne) from the site due to changed circumstances (new total acreage - 96.5 acres);

-- Expand Site 4 to restore 29 acres to zone status and to include Temporary Site 4A (29 acres) on a permanent basis as proposed Site 4B (new total acreage - 73 acres);

-- Expand Site 7 to restore 23 acres to zone status and to include Temporary Site 8 (23 acres) on a permanent basis (new total acreage - 66 acres);

-- Make Temporary Site 1 permanent as proposed Site 12;

-- Make Temporary Site 2 permanent as proposed Site 13;

-- Make Temporary Site 5 permanent as proposed Site 14 and expand to include an additional 13 acres (new total acreage - 27 acres); and,

-- Make Temporary Site 7 permanent as proposed Site 15 and expand to include an additional 5 acres (new total acreage - 50 acres).

No specific manufacturing authority is being requested at this time. Such requests would be made to the Board on a case-by-case basis.

In accordance with the Board's regulations, a member of the FTZ Staff has been designated examiner to investigate the application and report to the Board.

Public comment is invited from interested parties. Submissions (original and 3 copies) shall be addressed to the Board's Executive Secretary at the address below. The closing period for their receipt is April 16, 2007. Rebuttal comments in response to material submitted during the foregoing period may be submitted during the subsequent 15-day period (to May 1, 2007).

A copy of the application and accompanying exhibits will be available for public inspection at each of the following locations: U.S. Department of Commerce Export Assistance Center, 401 N. Front Street, Suite 200, Columbus, OH 43215; and, Office of the Executive Secretary, Foreign-Trade Zones Board, Room 2814B, U.S. Department of Commerce, 1401 Constitution Avenue, N.W., Washington, DC 20230.

For further information, contact Camille Evans at Camille_Evans@ita.doc.gov or (202) 482-2350.

Dated: February 8, 2007.
Andrew McGilvray,
Executive Secretary.

[FR Doc. E7-2681 Filed 2-14-03; 8:45 am]

BILLING CODE 3510-DS-S